DEPARTMENT OF THE TREASURY

Public Meeting of the President's Advisory Panel on Federal Tax Reform

AGENCY: Department of the Treasury.

ACTION: Change in meeting.

SUMMARY: This notice advises all interested persons of a change in the date, time, and location of a public meeting of the President's Advisory Panel on Federal Tax Reform.

DATES: The meeting that was to be held on Tuesday, April 12, 2005 (this meeting was previously announced in 70 FR 15990 (March 29, 2005)), will be held on Monday, April 18, 2005, in the Washington, DC area at 12:30 p.m.

ADDRESSES: Due to exceptional circumstances concerning scheduling, this notice is being published at this time. The venue has not been identified to date. Venue information will be posted on the panel's Web site at http://www.taxreformpanel.gov as soon as it is available. Seating will be available to the public on a first-come, first-served basis.

FOR FURTHER INFORMATION CONTACT: The Panel staff at (202) 927-2TAX (927-2829) (not a toll-free call) or e-mail info@taxreformpanel.gov (please do not send comments to this box). Additional information is available at http://www.taxreformpanel.gov.

SUPPLEMENTARY INFORMATION: Purpose: This is the seventh meeting of the Advisory Panel. The meeting will be focused on understanding the interaction of the Federal tax system with State and local tax systems and how taxes impact business investment.

Comments: Interested parties are invited to attend the meeting. The public is invited to submit comments regarding specific issues of tax reform. Any written comments with respect to this meeting may be mailed to The President's Advisory Panel on Federal Tax Reform, 1440 New York Avenue, NW., Suite 2100, Washington, DC 20220. All written comments will be made available to the public.

Records: Records are being kept of Advisory Panel proceedings and will be available at the Internal Revenue Service's FOIA Reading Room at 1111 Constitution Avenue, NW., Room 1621, Washington, DC 20024. The Reading Room is open to the public from 9 a.m. to 4 p.m., Monday through Friday, except holidays. The public entrance to the reading room is on Pennsylvania Avenue between 10th and 12th streets. The phone number is (202) 622-5164 (not a toll-free number). Advisory Panel documents, including meeting announcements, agendas, and minutes, will also be available on http://www.taxreformpanel.gov.

Dated: April 6, 2005.
Mark S. Kaizen,
Designated Federal Officer.

[FR Doc. 05-7257 Filed 4-7-05; 8:45 am]

BILLING CODE 4810-25-P